DEPARTMENT OF COMMERCE

National Oceanic and Atmospheric Administration

Notice of Partial Delegation of Authority to the Under Secretary of Commerce for Oceans and Atmosphere and Administrator of the National Oceanic and Atmospheric Administration to Implement Section 113 of the Consolidated Appropriations Act, 2017, Regarding the Research, Exploration and Salvage of RMS Titanic; Correction

AGENCY: National Oceanic and Atmospheric Administration, Department of Commerce.

ACTION: Notice of delegation of authority; correction.

SUMMARY: NOAA published a document in the Federal Register of August 5, 2019, concerning a delegation of authority for Section 113 of the Consolidated Appropriations Act, 2017. The notice contained an incorrect phone number.

SUPPLEMENTARY INFORMATION:

Correction

In the Federal Register of August 5, 2019, in FR Doc. 2019-16635, on page 38012, in the second column, correct the For Further Information Contact caption to read:

FOR FURTHER INFORMATION CONTACT: David Alberg, Superintendent of the Monitor National Marine Sanctuary, at (757) 591-7326, David.Alberg@noaa.gov.

John Armor,
Director, Office of National Marine Sanctuaries, NOAA.

[FR Doc. 2019-19577 Filed 9-10-19; 8:45 am]

BILLING CODE 3510-NK-P